DEPARTMENT OF TRANSPORTATION

Office of the Secretary

[Docket Number: OST-95-950]

Notice of Request for Extension of a Previously Approved Collection

AGENCY: Office of the Secretary, DOT.

ACTION: Notice.

SUMMARY: In compliance with the Paperwork Reduction Act of 1995, Public Law 104-13, (44 U.S.C. 3501 et seq.) this notice announces that the Information Collection Request, abstracted below, is being forwarded to the Office of Management and Budget for renewal and comment. The ICR describes the nature of the information collection and its expected cost burden. The Federal Register Notice with a sixty day comment period soliciting comments on the following collection of information was published on October 31, 2008 [FR Vol. 73, pages 65001-65002]. No comments were received.

DATES: Written comments on this notice should be received on or before March 16, 2009 and submitted to the attention of the DOT/OST Desk Officer, Office of Information and Regulatory Affairs, Office of Management and Budget, Docket Library, Room 10102, 725 17th Street, NW., Washington, DC 20503 with the associated OMB Approval Number 2105-0534 and Dockets OST-95-950.

FOR FURTHER INFORMATION CONTACT: Aleta Best, Office of the Assistant Secretary for Aviation and International Affairs, Office of the Secretary, U.S. Department of Transportation, 1200 New Jersey Avenue, SE., Washington, DC 20590, (202) 493-0797.

SUPPLEMENTARY INFORMATION: Title: Passenger Manifest Information.

OMB Control Number: 2105-0534.

Expiration Date: March 31, 2009.

Type of Review: Renewal and approval for a previously approved collection.

Respondents: All U.S. air carriers, foreign air carriers, computer reservations systems (CRSs), and travel agents doing business in the United States, and the traveling public.

Number of Respondents: 16,000, excluding travelers.

Number of Responses: 31,000,000.

Total Annual Burden: 518,000 hours.

Abstract: Public Law 101-604 (entitled the Aviation Security Improvement Act of 1990, or “ASIA 90,” and later codified as 49 U.S.C. 44909) requires that certificated air carriers and large foreign air carriers collect the full name of each U.S. citizen traveling on flight segments to or from the United States and solicit a contact name and telephone number. In case of an aviation disaster, airlines would be required to provide the information to the Department of State and, in certain circumstances, to the National Transportation Safety Board. Each carrier would develop its own collection system. The Passenger Manifest Information, Final Rule (14 CFR 243) was published in the Federal Register, Vol. 63, No. 32 (February 18, 1998). The rule was effective March 20, 1998.

Comments are invited on: (a) Whether this collection of information (third party notification) is necessary for the proper performance of the agency, including whether the information will have practical utility; (b) the accuracy of the agency's estimate of burden of the proposed collection of information; (c) ways to enhance the quality, utility, and clarity of the information collected; and (d) ways to minimize the burden of the collection of information on the respondents, including through the use of automated techniques or other forms of information technology.

All responses to this notice will be summarized and included in the request for OMB approval. All comments will also become a matter of public record.

Todd M. Homan,
Director, Office of Aviation Analysis.

[FR Doc. E9-3067 Filed 2-11-09; 8:45 am]

BILLING CODE 4910-9X-P